DEPARTMENT OF JUSTICE

Parole Commission

Sunshine Act Meetings

TIME AND DATE: 10:00 a.m., Thursday, May 17, 2012.

PLACE: U.S. Parole Commission, 90 K Street NE., 3rd Floor, Washington, DC.

STATUS: Open.

MATTERS TO BE CONSIDERED: Approval of minutes for February 9, 2012 meeting; reports from the Chairman, the Commissioners, and senior staff; report on Short-Term Intervention for Success project; report on project regarding special hearing dockets for mental health cases.

CONTACT PERSON FOR MORE INFORMATION: Patricia W. Moore, Staff Assistant to the Chairman, U.S. Parole Commission, 90 K Street NE., 3rd Floor, Washington, DC 20530, (202) 346-7001.

Dated: May 8, 2012.
Rockne Chickinell,
General Counsel, U.S. Parole Commission.

[FR Doc. 2012-11427 Filed 5-8-12; 4:15 pm]

BILLING CODE 4410-31-P